Title 3—

The President

Proclamation 9373 of November 30, 2015

National Impaired Driving Prevention Month, 2015

By the President of the United States of America

A Proclamation

No person should suffer the tragedy of losing someone as a result of drunk, drugged, or distracted driving, but for far too long the danger of impaired driving has robbed people of the comfort of knowing that when they or a loved one leaves home they will return safely. Impaired driving puts drivers, passengers, and pedestrians at risk, and each year it claims the lives of thousands of Americans. During National Impaired Driving Prevention Month, we recommit to preventing these incidents by acting responsibly and by promoting responsible behavior in those around us. Together, we can enhance public safety and work to ensure a happy, healthy life for all our people.

During the holidays—a season that includes a spike in travel and celebrations that may include alcohol—and throughout the year, we must remain vigilant and aware of drivers that are distracted or under the influence of drugs or alcohol. Drunk drivers kill more than 10,000 people annually, and about one-third of traffic deaths in the United States involve a driver with a blood alcohol concentration above the legal limit. Driving under the influence of drugs, an increasingly common occurrence, carries the same risks as drunk driving and is just as avoidable. And driving distracted, including while using a cell phone, can lead to tragic outcomes that are also preventable. Every American can play a role in reducing the frequency of these incidents by speaking out and warning others of the dangers associated with impaired driving, taking away the keys of would-be drivers they know to be intoxicated, and reminding drivers they are riding with to stay focused on the road and to limit distractions. It is also critical for drivers and passengers alike to wear seatbelts regardless of how far they are traveling.

Across our Nation, State and local law enforcement agencies are working tirelessly to prevent and respond to impaired driving. The Drive Sober or Get Pulled Over campaign, occurring from December 16, 2015, through January 1, 2016, seeks to raise awareness of the dangers associated with drunk and drugged driving and aims to prevent as many of these tragedies from occurring as possible. At the Federal level, my Administration remains committed to doing our part. This year, we released an updated National Drug Control Strategy, which aims to reduce drugged driving by encouraging States to enact drugged driving laws and improve efforts to identify these impaired drivers. We also continue to support the efforts of the tireless advocates working to stop drunk driving, and we will keep pushing to equip law enforcement with the tools needed to end and prevent incidents of impaired driving. For more information, visit www.Distraction.gov, www.NHTSA.gov/DriveSober, and www.WhiteHouse.gov/ONDCP/DruggedDriving.

As we gather with friends and loved ones this month, I encourage all Americans to enjoy their time together responsibly. It is important to the health and safety of us all to plan ahead by designating a non-drinking driver, staying in place if impaired, and arranging for alternative means of transportation. During National Impaired Driving Prevention Month, let us pledge to always drive sober and alert and to avoid distractions behind the wheel. Together, we can help ensure all our people are able to enjoy the holiday spirit and make memories with those they care about while safeguarding the well-being of everyone on the road.

NOW, THEREFORE, I, BARACK OBAMA, President of the United States of America, by virtue of the authority vested in me by the Constitution and the laws of the United States, do hereby proclaim December 2015 as National Impaired Driving Prevention Month. I urge all Americans to make responsible decisions and take appropriate measures to prevent impaired driving.

IN WITNESS WHEREOF, I have hereunto set my hand this thirtieth day of November, in the year of our Lord two thousand fifteen, and of the Independence of the United States of America the two hundred and fortieth.

[FR Doc. 2015-30740

Filed 12-2-15; 11:15 am]

Billing code 3295-F6-P